FEDERAL COMMUNICATIONS COMMISSION

[22023]

Open Commission Meeting Thursday, April 22, 2021

April 16, 2021.

The Federal Communications Commission will hold an Open Meeting on the subjects listed below on Thursday, April 22, 2021, which is scheduled to commence at 10:30 a.m.

Due to the current COVID-19 pandemic and related agency telework and headquarters access policies, this meeting will be in a wholly electronic format and will be open to the public on the internet via live feed from the FCC's web page at www.fcc.gov/live and on the FCC's YouTube channel.

Item No. | Bureau | Subject
1 | WIRELINE COMPETITION | Title: Implementation of the National Suicide Hotline Improvement Act of 2018 (WC Docket No. 18-336). Summary: The Commission will consider a Further Notice of Proposed Rulemaking to increase the effectiveness of the National Suicide Prevention Lifeline by proposing to require covered text providers to support text messaging to 988.
2 | OFFICE OF ENGINEERING AND TECHNOLOGY WIRELESS TELE-COMMUNICATIONS AND INTERNATIONAL | Title: Allocation of Spectrum for Non-Federal Space Launch Operations (ET Docket No. 13-115); Amendment of Part 2 of the Commission's Rules for Federal Earth Stations Communicating with Non-Federal Fixed Satellite Service Space Stations (RM-11341); Federal Space Station Use of the 399.9-400.05 MHz Band. Summary: The Commission will consider a Report and Order and Further Notice of Proposed Rulemaking that would adopt a new spectrum allocation for commercial space launch operations and seek comment on additional allocations and service rules.
3 | OFFICE OF ENGINEERING AND TECHNOLOGY | Title: Amendment of Parts 15 and 74 of the Rules for Wireless Microphones in the TV Bands, 600 MHz Guard Band, 600 MHz Duplex Gap, and the 941.5-944 MHz, 944-952 MHz, 952.850-956.250 MHz, 956.45-959.85 MHz, 1435-1525 MHz, 6875-6900 MHz and 7100-7125 MHz Bands (RM-11821; ET Docket No. 21-115). Summary: The Commission will consider a Notice of Proposed Rulemaking that proposes to revise the technical rules for Part 74 low-power auxiliary station (LPAS) devices to permit a recently developed, and more efficient, type of wireless microphone system.
4 | PUBLIC SAFETY AND HOMELAND SECURITY | Title: Improving 911 Reliability (PS Docket No. 13-75); Amendments to Part 4 of the Commission's Rules Concerning Disruptions to Communications (PS Docket No. 15-80); New Part 4 of the Commission's Rules Concerning Disruptions to Communications; (ET Docket No. 04-35). Summary: The Commission will consider a Third Notice of Proposed Rulemaking to promote public safety by ensuring that 911 call centers and consumers receive timely and useful notifications of disruptions to 911 service.
5 | PUBLIC SAFETY AND HOMELAND SECURITY | Title: Improving Public Safety Communications in the 800 MHz Band (WT Docket No. 02-55). Summary: The Commission will consider an Order to conclude its 800 MHz rebanding program due to the successful fulfillment of this public safety mandate.
6 | MEDIA | Title: Sponsorship Identification Requirements for Foreign Government-Provided Programming (MB Docket No. 20-299). Summary: The Commission will consider a Report and Order to require clear disclosures for broadcast programming that is sponsored, paid for, or furnished by a foreign government or its representative.
7 | MEDIA | Title: Imposing Application Cap in Upcoming NCE FM Filing Window (MB Docket No. 20-343). Summary: The Commission will consider a Public Notice to impose a limit of ten applications filed by any party in the upcoming 2021 filing window for new noncommercial educational FM stations.
8 | ENFORCEMENT | Title: Enforcement Bureau Action. Summary: The Commission will consider an enforcement action.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Marlene Dortch,
Secretary.

[FR Doc. 2021-08282 Filed 4-20-21; 8:45 am]

BILLING CODE 6712-01-P